DEPARTMENT OF VETERANS AFFAIRS

[OMB Control No. 2900-0653]

Agency Information Collection Activities Under OMB Review

AGENCY: Veterans Health Administration, Department of Veterans Affairs.

ACTION: Notice.

SUMMARY: In compliance with the Paperwork Reduction Act (PRA) of 1995 (44 U.S.C. 3501-21), this notice announces that the Veterans Health Administration (VHA), Department of Veterans Affairs, has submitted the collection of information abstracted below to the Office of Management and Budget (OMB) for review and comment. The PRA submission describes the nature of the information collection and its expected cost and burden and includes the actual data collection instrument.

DATES: Comments must be submitted on or before April 18, 2005.

For Further Information or a Copy of the Submission Contact: Denise McLamb, Records Management Service (005E3), Department of Veterans Affairs, 810 Vermont Avenue, NW., Washington, DC 20420, (202) 273-8030, fax (202) 273-5981 or e-mail: denise.mclamb@mail.va.gov. Please refer to “2900-0653.”

Send comments and recommendations concerning any aspect of the information collection to VA's OMB Desk Officer, OMB Human Resources and Housing Branch, New Executive Office Building, Room 10235, Washington, DC 20503 (202) 395-7316. Please refer to “2900-0653.”

SUPPLEMENTARY INFORMATION: Title: Veterans Survey on Bio-terrorism, VA Form 10-21074(NR).

OMB Control Number: 2900-0653.

Type of Review: Extension of a currently approved collection.

Abstract: The Veterans Survey on Bio-terrorism is in response to PL 107-188, “Public Health Security and Bio-terrorism Preparedness and Response Act of 2002”. This act calls: “To improve the ability of the United States to prevent, prepare for and respond to bio-terrorism and other public health emergencies”. Section 101 of this act outlines a variety of preparedness goals, one of which includes the effective dissemination of relevant information in a timely and secure manner to the public. VA will use the information collected to evaluate how veterans obtained information about bio-terrorism in the past, or how they wish to obtain information in the future; their knowledge about the three different types of potential biological agents; their attitude, and perceptions of surviving a bio-terrorism attack in the future as well as their confidence in the role VA will play in the event of a bio-terrorism act.

An agency may not conduct or sponsor, and a person is not required to respond to a collection of information unless it displays a currently valid OMB control number. The Federal Register Notice with a 60-day comment period soliciting comments on this collection of information was published on December 1, 2004 at pages 69993-69994.

Affected Public: Individuals or households.

Estimated Annual Burden: 1,760 hours.

Estimated Average Burden per Respondent: 27 minutes.

Frequency of Response: Twice.

Estimated Number of Respondents: 7,382.

Dated: February 28, 2005.
By direction of the Secretary.
Loise Russell,
Director, Records Management Service.

[FR Doc. 05-5236 Filed 3-16-05; 8:45 am]

BILLING CODE 8320-01-P